TENNESSEE VALLEY AUTHORITY

Paperwork Reduction Act of 1995, as amended by Pub. L. 104-13; Submission for OMB Review; Comment Request

AGENCY: Tennessee Valley Authority.

ACTION: Submission for OMB review; comment request.

SUMMARY: The proposed information collection described below will be submitted to the Office of Management and Budget (OMB) for review, as required by the Paperwork Reduction Act of 1995 (44 U.S.C. Chapter 35, as amended). The Tennessee Valley Authority is soliciting public comments on this proposed collection as provided by 5 CFR 1320.8(d)(1). Requests for information, including copies of the information collection proposed and supporting documentation, should be directed to the Agency Clearance Officer: Alice D. Witt, Tennessee Valley Authority, 1101 Market Street (EB 5B), Chattanooga, Tennessee 37402-2801; (423) 751-6832. (SC: 0001JTJ) Comments should be sent to the OMB Office of Information and Regulatory Affairs, Attention: Desk Officer for the Tennessee Valley Authority by October 20, 2005.

SUPPLEMENTARY INFORMATION:

Type of Request: Regular submission; proposal for a new collection.

Title of Information Collection: Confirmation of TVA-Owned Cash.

Frequency of Use: One time.

Type of Affected Public: Business.

Small Businesses or Organizations Affected: No.

Estimated Number of Annual Responses: 629.

Estimated Total Annual Burden Hours: 345.50.

Estimated Average Burden Hours Per Response: 0.55 hours.

Need For and Use of Information: We are requesting the information from the financial institutions located near TVA operating plants and offices to determine whether those financial institutions have TVA-owned cash on deposit. We will use the information obtained to confirm the amount of cash included in TVA's financial statement report.

Jacklyn J. Stephenson,
Senior Manager, Enterprise Operations, Information Services.

[FR Doc. 05-18684 Filed 9-19-05; 8:45 am]

BILLING CODE 8120-08-P